DEPARTMENT OF ENERGY

Office of Energy Efficiency and Renewable Energy

Supplemental Announcement Number 02, Hydrogen Technical Analysis, to the Broad Based Solicitation (DE-PS36-00GO10482) for Submission of Financial Assistance Applications Involving Research, Development and Demonstration

AGENCY: The Department of Energy (DOE).

ACTION: Request for applications for technical analysis efforts in support of the DOE Hydrogen Program.

SUMMARY: The DOE Office of Power Technologies is funding a competitive financial assistance program in support of the DOE Hydrogen Program. Applications are requested under a DOE Broad Based Solicitation that is anticipated to result in the award of one or more cooperative agreements in Fiscal Year 2000.

Background Information

The Office of Power Technologies (OPT) of the DOE Office of Energy Efficiency and Renewable Energy (EERE) is supporting the issuance of a Supplemental Announcement to the EERE Broad Based Solicitation for Submission of Financial Assistance Applications Involving Research, Development and Demonstration, DE-PS36-00GO10482. The Broad Based Solicitation contains information that must be used in conjunction with the Supplemental Announcement when applying for an award. Thus, in order to prepare a complete application, it is mandatory to comply with the requirements of the overall Broad Based Solicitation document, DE-PS36-00GO10482 (found on the Golden Field Office Home Page at http://www.eren.doe.gov/golden/solicitations.html) as well as the requirements of the Supplemental Announcement 02 document.

Under this Supplemental Announcement, DOE is seeking applications for technical analysis that can advance hydrogen production, storage, and utilization technologies. The objectives are to provide analysis in the following areas: (1) Technical analysis of projects now funded by the DOE Hydrogen Program, (2) analysis of novel hydrogen systems not currently being researched in the Program, (3) assistance in disseminating hydogen-related information to the public and industry, and (4) technical analysis on matters affecting hydrogen-related issues being considered by the International Energy Agency.

It is anticipated that projects may be selected for initial 12-month awards with possible continuations for up to two additional years. DOE is proposing to undertake this effort under the Hydrogen Future Act of 1996, Public Law 104-271. Awards, if any, will result from a merit review process applied to the applications.

DATES: Applications should be submitted as described in the Supplemental Announcement by March 31, 2000.

FOR FURTHER INFORMATION, CONTACT: U.S. Department of Energy, Golden Field Office, 1617 Cole Boulevard, Golden, CO 80401. The Contract Specialist is Beth H. Peterman, at facsimile (303) 275-4788, or e-mail at beth_peterman@nrel.gov. The Supplemental Announcement can be obtained from the GFO website at www.eren.doe.gov/golden/solicitations.html as of February 22, 2000.

Issued in Golden, Colorado, on February 15, 2000.
Mary Hartford,
Contracting Officer, GO.

[FR Doc. 00-4347 Filed 2-23-00; 8:45 am]

BILLING CODE 6450-01-P